DEPARTMENT OF DEFENSE

Department of the Army; Corps of Engineers

Intent To Prepare a Draft Environmental Impact Statement for the Expansion of an Existing Sand and Aggregate Mining Operation Proposed by Aggregate Industries in a Backwater Area of the Mississippi River in Cottage Grove, MN

AGENCY: Department of the Army, U.S. Army Corps of Engineers, DOD.

ACTION: Notice of intent.

SUMMARY: Aggregate Industries is proposing a project that will require a St. Paul District, Corps of Engineers (Corps) permit for excavation within a navigable water and to discharge dredged material into waters and wetlands during an aggregate mining operation.

Specifically, Aggregate Industries is proposing to dredge and excavate sand and gravel in approximately 230 acres of backwater area adjacent to the main channel of the Mississippi River. A berm would be constructed in the river upstream of the mine area to minimize current velocity in the mining area and to reduce turbidity. Sand and gravel would be excavated using a clamshell-type dredge to a maximum depth of approximately 200 feet. Dredged material would be transported via a conveyor system from the dredge to an existing sand and gravel processing plant located on Grey Cloud Island. Excess sand not used for berm construction would be returned to the mined area. A specific compensatory mitigation plan has not yet been developed for the project. Aggregate Industries intends to work with interested federal and state agencies to develop an acceptable plan that would meet federal and state compensatory mitigation requirements. The project requires Corps of Engineers approval under Section 10 of the Rivers and Harbors Act of 1899 and under Section 404 of the Clean Water Act. The final environmental impact statement will be used as a basis for the permit decision and to ensure compliance with the National Environmental Policy Act (NEPA).

DATES: A public meeting will be held on May 15, 2008 from 4:30 p.m. to 6:30 p.m.

ADDRESSES: The meeting will be held in the Cottage Grove City Hall, 7516 80th Street South, Cottage Grove, MN.

FOR FURTHER INFORMATION CONTACT: Questions concerning the Draft Environmental Impact Statement (DEIS) can be addressed to Mr. Tom Hingsberger, Corps Regulatory Branch, by letter at U.S. Army Corps of Engineers, 190 Fifth Street East, St. Paul, MN 55101-1638, by telephone at (651) 290-5367, or by e-mail at thomas.j.hingsberger@usace.army.mil.

SUPPLEMENTARY INFORMATION: The Corps and the City of Cottage Grove, Minnesota will jointly prepare the DEIS. The Corps is the lead federal agency and the City of Cottage Grove (City) is the lead state agency under the State of Minnesota's Environmental Policy Act. A Scoping Environmental Assessment Worksheet (EAW) and Draft Scoping Decision Document will be available for review on or after April 21, 2008 on the Internet at http://www.eqb.state.mn.us. The Corps and the City will conduct a public meeting (see DATES and ADDRESSES). Additional meetings will be conducted as needed. We anticipate that the DEIS will be available to the public in summer 2008.

The DEIS will assess impacts of the proposed action and reasonable alternatives, identify and evaluate mitigation alternatives, and discuss potential environmental monitoring. Significant issues and resources to be identified in the DEIS will be determined through coordination with responsible federal, state, and local agencies; the general public; interested private organizations and parties; and affected Native American Tribes. Anyone who has an interest in participating in the development of the DEIS is invited to contact the St. Paul District, Corps of Engineers. Significant issues that will be addressed in the DEIS include:

1. Natural resources, including: Fisheries, mussels, waterfowl, riparian areas, and waters of the U.S.

2. Water quality, groundwater, erosion, and sedimentation.

3. Navigation, flood impacts, hydrology.

4. Historic and Cultural Preservation.

5. Air Quality.

6. Traffic.

7. Noise.

8. Social and economic resources.

9. Downstream resources.

Additional issues of interest may be identified through the public scoping meeting and agency meetings.

Issuing a permit for the excavation and dredging of a 230-acre area of the Mississippi River, and discharging material into the river and adjacent wetlands to construct berms and to dispose of excess dredged material, is considered to be a major Federal action with the potential to have a significant impact on the quality of the human environment. The project: (1) Has the potential to significantly affect habitat for fish and threatened or endangered species of mussels, (2) has the potential to affect navigation and flood impacts, (3) would be conducted in an area with potential cultural and historic significance. Our environmental review will be conducted to meet the requirements of the National Environmental Policy Act of 1969, National Historic Preservation Act of 1966, Council of Environmental Quality Regulations, Endangered Species Act of 1973, section 404 of the Clean Water Act, and other applicable laws and regulations.

Dated: April 29, 2008.
Jon L. Christensen,
Colonel, Corps of Engineers, District Engineer.

[FR Doc. E8-10782 Filed 5-13-08; 8:45 am]

BILLING CODE 3710-CY-P